DEPARTMENT OF JUSTICE

Notice of Lodging of the “Cinergy” Proposed Partial Consent Decree under the Clean Air Act

Pursuant to 28 CFR 50.7, notice is hereby given that on December 22, 2009, a proposed partial Consent Decree (“Consent Decree”) in United States of America, et al. v. Cinergy Corporation, et al., Civil Action No. 1:99-cv-01693-LJM-JMS, was lodged with the United States District Court for the Southern District of Indiana.

In this civil enforcement action under the Federal Clean Air Act (“Act”), PSI Energy, Inc. (now Duke Energy Indiana (“Duke”)), was found to have modified Units 1 and 3 at the Gallagher Generating Station (“Gallagher”) in New Albany, Indiana in violation of the sulfur dioxide (“SO2”) New Source Review requirements of the Act. The Consent Decree lodged with the Court requires Duke to reduce SO2 emissions from Gallagher Units 1 and 3, culminating in the repowering or shutdown of the units. The Decree further requires substantial reductions in SO2 emissions from Units 2 and 4 at Gallagher. Other relief includes $6.25 million in environmental mitigation projects and a $1.75 million civil penalty. The States of Connecticut, New Jersey, and New York have joined the settlement as co-plaintiffs, as have two citizens groups, Hoosier Environmental Council and Ohio Environmental Council.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America, et al. v. Cinergy Corporation, et al., D.J. Ref. 90-5-2-1-06965.

The Consent Decree may be examined at the Office of the United States Attorney for the Southern District of Indiana, located at 10 West Market Street, Suite 2100, Indianapolis, Indiana 46204-3048; or at U.S. EPA Region 5, 77 W. Jackson Blvd., Chicago, Illinois 60604-4590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.75 (25 cents per page reproduction cost) payable to the U.S. Treasury.

Maureen M. Katz,
Assistant Chief, Environmental Enforcement Section, Environment and Natural Resources Division.

[FR Doc. E9-30723 Filed 12-28-09; 8:45 am]

BILLING CODE 4410-15-P